SECURITIES AND EXCHANGE COMMISSION

[Release No. 34-63228; File No. SR-NYSEAmex-2010-102]

Self-Regulatory Organizations; Notice of Filing and Immediate Effectiveness of Proposed Rule Change by NYSE Amex LLC To Increase the Maximum Order Size Accepted by Floor Broker Systems From 25,000,000 Shares to 99,000,000 Shares

November 2, 2010.

Pursuant to Section 19(b)(1) ¹ of the Securities Exchange Act of 1934 (the “Act”) ² and Rule 19b-4 thereunder,³ notice is hereby given that on November 1, 2010, NYSE Amex LLC (the “Exchange” or “NYSE Amex”) filed with the Securities and Exchange Commission (the “Commission”) the proposed rule change as described in Items I and II below, which Items have been prepared by the self-regulatory organization. The Commission is publishing this notice to solicit comments on the proposed rule change from interested persons.

¹ 15 U.S.C. 78s(b)(1).

² 15 U.S.C. 78a.

³ 17 CFR 240.19b-4.

I. Self-Regulatory Organization's Statement of the Terms of Substance of the Proposed Rule Change

The Exchange proposes to amend NYSE Amex Equities Rule 1000 regarding the maximum order size accepted by Floor broker systems from 25,000,000 shares to 99,000,000 shares. The text of the proposed rule change is available at the Exchange, on the Commission's Web site at http://www.sec.gov, at the Commission's Public Reference Room, and http://www.nyse.com.

II. Self-Regulatory Organization's Statement of the Purpose of, and Statutory Basis for, the Proposed Rule Change

In its filing with the Commission, the self-regulatory organization included statements concerning the purpose of, and basis for, the proposed rule change and discussed any comments it received on the proposed rule change. The text of those statements may be examined at the places specified in Item IV below. The Exchange has prepared summaries, set forth in sections A, B, and C below, of the most significant parts of such statements.

A. Self-Regulatory Organization's Statement of the Purpose of, and Statutory Basis for, the Proposed Rule Change

1. Purpose

The Exchange proposes to amend Rule 1000 to provide that Floor broker systems shall accept a maximum order size of 99,000,000, an increase from the current 25,000,000 share limit.

a. Background

Floor brokers receive orders from customers via telephone and electronic delivery to Floor broker systems. Details of orders delivered to Floor broker systems are automatically transmitted to a designated Exchange database as required by NYSE Amex Equities Rule 123(e). Orders delivered telephonically must be manually entered by the broker (or clerk) into Exchange systems in order to capture the order details in the designated Exchange database pursuant to Rule 123(e) before the broker can represent these orders on the Exchange. Exchange systems currently accept orders up to 25,000,000 shares. Exchange systems include Display Book®, which is the Exchange's matching engine, and Floor broker systems, which are the systems made available to Floor brokers to accept orders from customers and if warranted, enter such orders into the Display Book. There is no limit on the size of orders that can be transmitted to a Floor broker telephonically. Customers who wish to send orders in excess of 25,000,000 million shares must break these orders into smaller sizes to send electronically or submit these orders by telephone to the broker. The broker (or clerk) must then enter these telephonic orders in smaller quantities into Exchange systems.

b. Proposed Amendment to NYSE Amex Equities Rule 1000

The Exchange proposes to amend Rule 1000 to state that Floor broker systems shall accept a maximum order size up to 99,000,000 shares. This enhancement would allow more efficient electronic processing of very large orders sent to Floor brokers.

Orders sent to Display Book by Floor brokers are subject to the same maximum order size of 25,000,000 shares as all other market participants.

The Exchange notes that parallel changes are proposed to be made to the rules of the New York Stock Exchange LLC.⁴

⁴ See SR-NYSE-2010-71.

The Exchange will implement the systemic changes on or about December 10, 2010 and will notify Floor brokers when the Floor broker systems have been modified to accept a maximum order size up to 99,000,000 shares.

2. Statutory Basis

The basis under the Securities Exchange Act of 1934 (the “Act”) ⁵ for this proposed rule change is the requirement under Section 6(b)(5) ⁶ that an exchange have rules that are designed to promote just and equitable principles of trade, to remove impediments to and perfect the mechanism of a free and open market and a national market system and, in general, to protect investors and the public interest. The Exchange believes that the proposed rule change accomplishes these goals by providing efficient methods for customers to transmit orders to Floor brokers.

⁵ 15 U.S.C. 78a.

⁶ 15 U.S.C. 78f(b)(5).

B. Self-Regulatory Organization's Statement on Burden on Competition

The Exchange does not believe that the proposed rule change will impose any burden on competition that is not necessary or appropriate in furtherance of the purposes of the Act.

C. Self-Regulatory Organization's Statement on Comments on the Proposed Rule Change Received From Members, Participants, or Others

No written comments were solicited or received with respect to the proposed rule change.

III. Date of Effectiveness of the Proposed Rule Change and Timing for Commission Action

Because the foregoing proposed rule change does not significantly affect the protection of investors or the public interest, does not impose any significant burden on competition, and, by its terms, does not become operative for 30 days from the date on which it was filed, or such shorter time as the Commission may designate, it has become effective pursuant to Section 19(b)(3)(A) of the Act ⁷ and Rule 19b-4(f)(6) thereunder.⁸

⁷ 15 U.S.C. 78s(b)(3)(A).

⁸ 17 CFR 240.19b-4(f)(6). In addition, Rule 19b-4(f)(6)(iii) requires the Exchange to give the Commission written notice of the Exchange's intent to file the proposed rule change, along with a brief description and text of the proposed rule change, at least five business days prior to the date of filing of the proposed rule change, or such shorter time as designated by the Commission. The Exchange has satisfied this requirement.

At any time within 60 days of the filing of the proposed rule change, the Commission summarily may temporarily suspend such rule change if it appears to the Commission that such action is necessary or appropriate in the public interest, for the protection of investors, or otherwise in furtherance of the purposes of the Act.

IV. Solicitation of Comments

Interested persons are invited to submit written data, views, and arguments concerning the foregoing, including whether the proposed rule change is consistent with the Act. Comments may be submitted by any of the following methods:

Electronic Comments

• Use the Commission's Internet comment form (http://www.sec.gov/rules/sro.shtml); or

• Send an e-mail to rule-comments@sec.gov. Please include File Number SR-NYSEAmex-2010-102 on the subject line.

Paper Comments

• Send paper comments in triplicate to Elizabeth M. Murphy, Secretary, Securities and Exchange Commission, 100 F Street, NE., Washington, DC 20549-1090.

All submissions should refer to File Number SR-NYSEAmex-2010-102. This file number should be included on the subject line if e-mail is used. To help the Commission process and review your comments more efficiently, please use only one method. The Commission will post all comments on the Commission's Internet Web site (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for Web site viewing and printing in the Commission's Public Reference Room, 100 F Street, NE., Washington, DC 20549, on official business days between the hours of 10 a.m. and 3 p.m. Copies of the filing also will be available for inspection and copying at the principal office of the Exchange. All comments received will be posted without change; the Commission does not edit personal identifying information from submissions. You should submit only information that you wish to make available publicly. All submissions should refer to File Number SR-NYSEAmex-2010-102 and should be submitted on or before November 29, 2010.

For the Commission, by the Division of Trading and Markets, pursuant to delegated authority.⁹
⁹ 17 CFR 200.30-3(a)(12).
Florence E. Harmon,
Deputy Secretary.

[FR Doc. 2010-28183 Filed 11-5-10; 8:45 am]

BILLING CODE 8011-01-P